DEPARTMENT OF ENERGY

Federal Energy Regulatory Commission

[Docket No. PR02-21-000]

Duke Energy Guadalupe Pipeline, Inc.; Notice of Petition for Rate Approval

October 4, 2002.

Take notice that on September 10, 2002, Duke Energy Guadalupe Pipeline, Inc. (Guadalupe) filed pursuant to section 284.123(b)(2) of the Commission's regulations, a petition for rate approval requesting that the Commission approve the proposed rates as fair and equitable for transportation and storage services performed under section 311 of the Natural Gas Policy Act of 1978 (NGPA).

Guadalupe proposes to establish a rate of $0.1852 per MMBtu for system-wide firm and interruptible transportation services and interruptible parking and loaning services. In addition, Guadalupe proposes a two-part rate consisting of a demand charge of $2.059 per MMBtu and a commodity charge of $0.2529 per MMBtu for its proposed power and peaking services. Guadalupe also proposes to charge a 1.9 percent fuel charge for all services

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before October 18, 2002. Protests will be considered by the Commission in determining the appropriate action to be taken, but will not serve to make protestants parties to the proceedings. Any person wishing to become a party must file a motion to intervene. This petition for rate approval is on file with the Commission and are available for public inspection. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.200(a)(1)(iii) and the instructions on the Commission's Web site under the “e-filing” link.

Linwood A. Watson, Jr.,
Deputy Secretary.

[FR Doc. 02-25819 Filed 10-10-02; 8:45 am]

BILLING CODE 6717-01-P